FEDERAL DEPOSIT INSURANCE CORPORATION

Agency Information Collection Activities: Proposed Collections; Comment Request

AGENCY: Federal Deposit Insurance Corporation (FDIC).

ACTION: Notice and request for comment.

SUMMARY: The FDIC, as part of its continuing effort to reduce paperwork and respondent burden, invites the general public and other Federal agencies to take this opportunity to comment on the following information collections, as required by the Paperwork Reduction Act of 1995 (44 U.S.C. chapter 35): (1) Foreign Branching and Investment by Insured State Nonmember Banks; (2) Procedures for Monitoring Bank Secrecy Act Compliance; (3) Community Reinvestment Act; (4) Application for Waiver of Publication on Acceptance of Brokered Deposits for Adequately Capitalized Insured Institutions; (5) Real Estate Lending Standards; and (6) Management Official Interlocks.

DATES: Comments must be submitted on or before October 29, 2007.

ADDRESSES: Interested parties are invited to submit written comments by any of the following methods. All comments should refer to the appropriate OMB control number:

• http://www.FDIC.gov/regulations/laws/federal/.

• E-mail: comments@fdic.gov. Include the name and number of the collection in the subject line of the message.

• Mail: Steven F. Hanft (202-898-3907), Legal Division, Federal Deposit Insurance Corporation, 550 17th Street, NW., Washington, DC 20429.

• Hand Delivery: Comments may be hand-delivered to the guard station at the rear of the 550 17th Street Building (located on F Street), on business days between 7 a.m. and 5 p.m.

A copy of the comments may also be submitted to the OMB desk officer for the FDIC, Office of Information and Regulatory Affairs, Office of Management and Budget, New Executive Office Building, Washington, DC 20503.

FOR FURTHER INFORMATION CONTACT: Steven F. Hanft, at the address identified above.

SUPPLEMENTARY INFORMATION: Proposal to renew the following currently approved collections of information:

1. Title: Foreign Branching and Investment by Insured State Nonmember Banks.

OMB Number: 3064-0125.

Frequency of Response: On occasion.

Affected Public: Insured state nonmember banks.

Estimated Number of Respondents: 61.

Estimated Time per Response: 333 hours.

Total Annual Burden: 20,290 hours.

General Description of Collection: The Federal Deposit Insurance (FDI) Act requires state nonmember banks to obtain FDIC consent to establish or operate a branch in a foreign country, or to acquire and hold, directly or indirectly, stock or other evidence of ownership in any foreign bank or other entity. The FDI Act also authorizes the FDIC to impose conditions for such consent and to issue regulations related thereto. This collection is a direct consequence of those statutory requirements.

2. Title: Procedures for Monitoring Bank Secrecy Act Compliance.

OMB Number: 3064-0087.

Frequency of Response: On occasion.

Affected Public: Insured state nonmember banks.

Estimated Number of Respondents: 5,300.

Estimated Time per Response: 0.5 hour.

Total Annual Burden: 2,650 hours.

General Description of Collection: Insured state nonmember banks must establish and maintain procedures designed to assure and monitor their compliance with the requirements of the Bank Secrecy Act and the implementing regulations promulgated by the Department of Treasury at 31 CFR 103.

3. Title: Community Reinvestment Act.

OMB Number: 3064-0092.

Frequency of Response: On occasion.

Affected Public: Insured state nonmember banks.

Estimated Number of Respondents: 5,296.

Estimated Time per Response: 36.6 hours.

Total Annual Burden: 193,975 hours.

General Description of Collection: This information collection permits the FDIC to fulfill its obligations under the Community Reinvestment Act to evaluate and assign ratings to the performance of institutions, in connection with helping to meet the credit needs of their communities, including low- and moderate-income neighborhoods, consistent with safe and sound banking practices. The FDIC uses the information in the examination process and in evaluating applications for mergers, branches, and certain other corporate activities.

4. Title: Application for Waiver of Publication on Acceptance of Brokered Deposits for Adequately Capitalized Insured Institutions.

OMB Number: 3064-0099.

Frequency of Response: On occasion.

Affected Public: Any insured depository institution seeking a waiver to the prohibition on the acceptance of brokered deposits.

Estimated Number of Respondents: 30.

Estimated Time per Response: 6 hours.

Total Annual Burden: 180 hours.

General Description of Collection: Section 29 of the FDI Act prohibits undercapitalized insured depository institutions from accepting, renewing, or rolling over any brokered deposits. Adequately capitalized institutions may do so with a waiver from the FDIC, while well-capitalized institutions may accept, renew, or rollover brokered deposits without restriction.

5. Title: Real Estate Lending Standards.

OMB Number: 3064-0112.

Frequency of Response: On occasion.

Affected Public: Insured Savings Associations.

Estimated Number of Respondents: 5,300.

Estimated Time per Response: 20 hours.

Total Annual Burden: 106,000 hours.

General Description of Collection: Institutions will use real estate lending policies to guide their lending operations in a manner that is consistent with safe and sound banking practices and appropriate to their size, nature and scope of their operations. These policies should address certain lending considerations, including loan-to-value limits, loan administration policies, portfolio diversification standards, and documentation, approval and reporting requirements.

6. Title: Management Official Interlocks.

OMB Number: 3064-0118.

Frequency of Response: On occasion.

Affected Public: Insured state nonmember banks.

Estimated Number of Respondents: 2.

Estimated Time per Response: 4 hours.

Total Annual Burden: 8 hours.

General Description of Collection: This collection is associated with the FDIC's Management Official Interlocks regulation, 12 CFR part 348, which implements the Depository Institution Management Interlocks Act (DIMIA). DIMIA generally prohibits bank management officials from serving simultaneously with two unaffiliated depository institutions or their holding companies but allows the FDIC to grant exemptions in appropriate circumstances.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; (d) ways to minimize the burden of the information collection on respondents, including through the use of automated collection techniques or other forms of information technology; and (e) estimates of capital or start up costs, and costs of operation, maintenance and purchase of services to provide the information.

At the end of the comment period, the comments and recommendations received will be analyzed to determine the extent to which the collection should be modified prior to submission to OMB for review and approval. Comments submitted in response to this notice also will be summarized or included in the FDIC's requests to OMB for renewal of these collections. All comments will become a matter of public record.

Dated at Washington, DC, this 22nd day of August, 2007.
Federal Deposit Insurance Corporation.
Robert E. Feldman,
Executive Secretary.

[FR Doc. E7-16912 Filed 8-28-07; 8:45 am]

BILLING CODE 6714-01-P